DEPARTMENT OF COMMERCE

International Trade Administration

Princeton University

Notice of Decision on Application for Duty-Free Entry of Scientific Instruments

This is a decision pursuant to Section 6(c) of the Educational, Scientific, and Cultural Materials Importation Act of 1966 (Pub. L. 89-651, as amended by Pub. L .106-36; 80 Stat. 897; 15 CFR part 301. Related records can be viewed between 8:30 A.M. and 5:00 P.M. in Room 3705, U.S. Department of Commerce, 14th and Constitution Ave, NW, Washington, D.C.

Comments: None received. Decision: Approved. We know of no instruments of equivalent scientific value to the foreign instrument described below, for such purposes as this is intended to be used, that was being manufactured in the United States at the time of its order.

Docket Number: 09-022. Applicant: Princeton University, Princeton, NJ 08544. Instrument: SWAXS Dual 1D Position-Sensitive-Detector (PSD) System. Manufacturer: Hecus X-Ray System GmbH, Austria. Intended Use: See notice at 74 FR 23393, May 19, 2009. Reasons: The instrument is unique, in that it is a dual system, which allows simultaneous acquisition of time resolved small-angle and wide-angle x-ray scattering data. Justification for Duty-Free Entry: We know of no instrument of the same general category suited to these purposes, which was being manufactured in the United States at the time of order of each instrument

Dated: June 22, 2009.
Christopher Cassel,
Acting Director.
Subsidies Enforcement Office.
Import Administration.

[FR Doc. E9-15490 Filed 6-29-09; 8:45 am]

BILLING CODE 3510-DS-S